DEPARTMENT OF HEALTH AND HUMAN SERVICES

Office of Global Affairs Stakeholder Listening Session in Preparation for the 68th World Health Assembly

Time and date: May 8, 2015, 10:30-12:00 p.m. EST.

Place: Room 705A, U.S. Department of Health & Human Services, 200 Independence Ave SW., Washington, DC, 20201.

Status: Open, but requiring RSVP to OGA.RSVP@hhs.gov.

Purpose: The Stakeholder Listening Session will help the HHS Office of Global Affairs prepare for the World Health Assembly by taking full advantage of the knowledge, ideas, feedback, and suggestions from all communities interested in and affected by agenda items to be discussed at the 68th World Health Assembly. Your input will contribute to U.S. positions as we negotiate these important health topics with our international colleagues.

The listening session will be organized around the interests and perspectives of stakeholder communities, including, but not limited to:

• Public health and advocacy groups;

• State, local, and Tribal groups;

• Private industry;

• Minority health organizations; and

• Academic and scientific organizations.

It will allow public comment on all agenda items to be discussed at the 68th World Health Assembly: http://apps.who.int/gb/ebwha/pdf_files/WHA68/A68_1-en.pdf

RSVP: Due to security restrictions for entry into the HHS Humphrey Federal Building, we will need to receive RSVPs for this event. Please send your full name and organization to OGA.RSVP@hhs.gov. If you are not a U.S. citizen, please note this in the subject line of your RSVP, and our office will contact you to gain additional biographical information for your clearance. If you are not a U.S. citizen, you must RSVP no later than April 23, 2015. If you are American, please RSVP no later than Friday, May 1, 2015.

Due to the number of stakeholders expected to attend in person, we request that all speakers keep their interventions to three minutes or less. This time limit will be strictly enforced. Written comments are welcomed and encouraged, even if you are planning to attend in person. Please send these to the same email address: OGA.RSVP@hhs.gov.

We look forward to hearing your comments relative to the 68th World Health Assembly agenda items.

Dated: March 30, 2015.
Jimmy Kolker,
Assistant Secretary for Global Affairs.

[FR Doc. 2015-08124 Filed 4-9-15; 8:45 am]

BILLING CODE 4150-38-P